DEPARTMENT OF THE INTERIOR

National Park Service

[NPS-WASO-NAGPRA-NPS0031058; PPWOCRADN0-PCU00RP14.R50000]

Notice of Intent To Repatriate Cultural Items: Minnesota Historical Society, St. Paul, MN; Correction

AGENCY: National Park Service, Interior.

ACTION: Notice; correction.

SUMMARY: The Minnesota Historical Society has corrected a Notice of Intent to Repatriate published in the Federal Register on November 14, 2018. This notice corrects the identity and affiliation of one cultural item. Lineal descendants or representatives of any Indian Tribe or Native Hawaiian organization not identified in this notice that wish to claim this cultural item should submit a written request to the Minnesota Historical Society. If no additional claimants come forward, transfer of control of the cultural item to the lineal descendants, Indian Tribes, or Native Hawaiian organizations stated in this notice may proceed.

DATES: Representatives of any Indian Tribe or Native Hawaiian organization not identified in this notice that wish to claim this cultural item should submit a written request with information in support of the claim to the Minnesota Historical Society at the address in this notice by November 27, 2020.

ADDRESSES: Ben Gessner, Minnesota Historical Society, 345 W Kellogg Blvd., St. Paul, MN 55102, telephone (651) 259-3281, email benjamin.gessner@mnhs.org.

SUPPLEMENTARY INFORMATION: Notice is here given in accordance with the Native American Graves Protection and Repatriation Act (NAGPRA), 25 U.S.C. 3005, of the intent to repatriate a cultural item under the control of the Minnesota Historical Society, St. Paul, MN, that meets the definition of unassociated funerary object and object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice corrects the identity and affiliation of one cultural item, a Jefferson Peace Medal, that was published in a Notice of Intent to Repatriate in the Federal Register (83 FR 56871-56872, November 14, 2018). Transfer of control of the item in this correction notice has not occurred.

The Minnesota Historical Society's NAGPRA Committee and leadership examined additional geographic, historical, anthropological and archeological information provided by the Prairie Island Indian Community in the State of Minnesota (Mdewakanton Dakota), including a report provided by the Prairie Island Tribal Historic Preservation Officer and Dr. Ron Schirmer, Professor of Anthropology at Minnesota State University, Mankato, and have determined that in his role as a village headman, Tatankamani would have accepted a Jefferson Peace Medal on behalf of his entire community. Therefore, the Peace Medal cannot be owned by an individual. Further, Minnesota Historical Society's NAGPRA Committee and leadership have determined that the Peace Medal has ongoing historical, traditional, and cultural importance central to the Prairie Island Indian Community in the State of Minnesota. Mdewakanton Dakota people have lived on the shores of Lake Pepin and on Prairie Island since at least A.D. 1680, and the historical record unequivocally establishes the continuous presence of the Red Wing band of Mdewakanton Dakota people in the area from the 1600s to the current time. Consequently, Minnesota Historical Society's NAGPRA Committee and leadership have determined that the Peace Medal is both an unassociated funerary object and an object of cultural patrimony.

The Prairie Island Indian Community has requested the repatriation of this unassociated funerary object and object of cultural patrimony. Their request is supported by the Santee Sioux Nation, Nebraska, as well as a lineal descendant of Tatankamani, Sheila Ann Red Wing.

Correction

In the Federal Register (83 FR 56871, November 14, 2018), column 2, paragraph 1, sentence 1 under the heading “Notice of Intent to Repatriate Cultural Items: Minnesota Historical Society, St. Paul, MN” is corrected by substituting the following sentence:

The Minnesota Historical Society, in consultation with the appropriate Indian Tribes or Native Hawaiian organizations, has determined that the cultural item listed in this notice meets the definition of unassociated funerary object and object of cultural patrimony.

In the Federal Register (83 FR 56871, November 14, 2018), column 2, paragraph 4, sentence 1 is corrected by substituting the following sentence:

Notice is here given in accordance with the Native American Graves Protection and Repatriation Act (NAGPRA), 25 U.S.C. 3005, of the intent to repatriate a cultural item under the control of the Minnesota Historical Society, St. Paul, MN, that meets the definition of unassociated funerary object and object of cultural patrimony under 25 U.S.C. 3001.

In the Federal Register (83 FR 56872, November 14, 2018), column 1, paragraph 1 is corrected by adding the following sentence after sentence 1:

Pursuant to 25 U.S.C. 3001(3)(D), the one cultural item described above has ongoing historical, traditional, or cultural importance central to the Native American group or culture itself, rather than property owned by an individual.

In the Federal Register (83 FR 56872, November 14, 2018), column 1, paragraph 1, sentence 2 is corrected by substituting the following sentence:

Pursuant to 43 CFR 10.14(b), Josie Redwing, Melody Redwing, and Sheila Ann Red Wing are direct lineal descendants of Tatankamani, based on genealogical evidence on file with the Minnesota Historical Society.

In the Federal Register (83 FR 56872, November 14, 2018), column 1, paragraph 1, is corrected by adding the following sentence to the end of the paragraph:

Pursuant to 25 U.S.C. 3001(2), there is a relationship of shared group identity that can be reasonably traced between the unassociated funerary object and object of cultural patrimony and the Prairie Island Indian Community in the State of Minnesota.

Additional Requestors and Disposition

Representatives of any Indian Tribe or Native Hawaiian organization not identified in this notice that wish to claim this cultural item should submit a written request with information in support of the claim to Ben Gessner, Minnesota Historical Society, 345 W Kellogg Blvd., St. Paul, MN 55102, telephone (651) 259-3281, email benjamin.gessner@mnhs.org, by November 27, 2020. After that date, if no additional claimants have come forward, transfer of control of the unassociated funerary object and object of cultural patrimony to the Prairie Island Indian Community in the State of Minnesota may proceed.

The Minnesota Historical Society is responsible for notifying Josie Redwing; Melody Redwing; Sheila Ann Red Wing; the Crow Creek Sioux Tribe of the Crow Creek Reservation, South Dakota; Flandreau Santee Sioux Tribe of South Dakota; Lower Sioux Indian Community in the State of Minnesota; Oglala Sioux Tribe (previously listed as Oglala Sioux Tribe of the Pine Ridge Reservation, South Dakota); Prairie Island Indian Community in the State of Minnesota; Santee Sioux Nation, Nebraska; Shakopee Mdewakanton Sioux Community of Minnesota; Sisseton-Wahpeton Oyate of the Lake Traverse Reservation, South Dakota; and the Upper Sioux Community, Minnesota, that this notice has been published.

Dated: October 15, 2020
Melanie O'Brien,
Manager, National NAGPRA Program.

[FR Doc. 2020-23826 Filed 10-27-20; 8:45 am]

BILLING CODE 4312-52-P